DEPARTMENT OF VETERANS AFFAIRS

Privacy Act of 1974; System of Records

AGENCY: Department of Veterans Affairs (VA).

ACTION: Notice of amendment of system of records.

SUMMARY: As required by the Privacy Act of 1974, notice is hereby given that the Department of Veterans Affairs (VA) is amending the system of records entitled “Library Network (VALNET)-VA” (136VA19E) as set forth in a notice, published in the Federal Register on November 26, 2010. VA is amending the system of records by revising the System Name, System Number, System Manger, Categories of Individuals Covered by the System, Categories of Records in the System, Records Source Categories, Policies and Practices for Retention and Disposal of Records, and Appendix. VA is republishing the system notice in its entirety.

DATES: Comments on this amended system of records must be received no later than April 13, 2018. If no public comment is received during the period allowed for comment or unless otherwise published in the Federal Register by VA, the amended system will become effective April 13, 2018.

ADDRESSES: Written comments may be submitted through www.Regulations.gov; by mail or hand-delivery to Director, Regulation Policy and Management (00REG), Department of Veterans Affairs, 810 Vermont Ave. NW, Room 1064, Washington, DC 20420; or by fax to (202) 273-9026 (this is not a toll-free number). Comments should indicate that they are submitted in response to “Library Network (VALNET)-VA” (136VA19E). Copies of comments received will be available for public inspection in the Office of Regulation Policy and Management, Room 1063B, between the hours of 8:00 a.m. and 4:30 p.m., Monday through Friday (except holidays). Please call (202) 461-4902 for an appointment. (This is not a toll-free number.) In addition, comments may be viewed online at www.Regulations.gov.

FOR FURTHER INFORMATION CONTACT: Veterans Health Administration (VHA) Privacy Officer, Department of Veterans Affairs, 810 Vermont Avenue NW, Washington, DC 20420; telephone 704-245-2492.

SUPPLEMENTAL INFORMATION: The System Name is being changed from “Library Network (VALNET)-VA” to “VA Library Network (VALNET)-VA”.

The System Number is changed from 136VA19E to 136VA10P2 to reflect the current organizational alignment.

The System Manager has been amended to replace VHA Library Program Office (19E) with Director, VHA Library Network Office (10P2C).

The Categories of Individuals Covered by the System is being amended to include records being maintained for Veterans, family members and caregivers.

The Categories of Records in the System is being amended to remove 2. Patients. Included under this section is:

1. Equipment such as iPads, e-readers, and laptops as potential checkout material and record may include name, last four of social security number, email address, phone number, work or ward location of the user; and

2. Veterans, family members and caregivers as user and including the name of user are collected.

The Record Source Category is being amended to include the individual who use the library services.

Policies and Practices for Retention and Disposal of Records is being amended to replace Item XLV with 1950 library Services, Item 1. Temporary; destroy when superseded or obsolete (GRS 14, item 6).

Appendix A has been amended to remove the following libraries which are no longer operating: Library, VA Medical Center, 1700 East 38th Street, Marion, IN 46953-4589; Library, VA Medical Center, 2200 Gage Boulevard, Topeka, KS 66622-0001; Library, VA Medical Center, 1601 Perdido Street, New Orleans, LA 70112; Library, Perry Point VA Medical Center, Circle Drive Building 5H, Perry Point, MD 21902; Library, VA Medical Center, 325 East H Street, Iron Mountain, MI 49801; Library, VA Medical Center, 76 Veterans Way, Bath, NY 14810; Library, Central Texas Veterans Health Care System, 4800 Memorial Drive, Waco, TX 76711; Library, VA Medical Center, 2500 Overbrook Terrace, Madison, WI 53705-2286; Library, VA Medical Center, 1898 Fort Road, Sheridan, WY 82801-8320. The following address of Library, VA Medical Center, #1 Jefferson Barracks Drive, St. Louis, MO 63125-4199 to Library, VA Medical Center, 915 N Grand Blvd., St. Louis, MO 63106.

The Report of Intent to Amend a System of Records Notice and an advance copy of the system notice have been sent to the appropriate Congressional committees and to the Director of Office of Management and Budget (OMB) as required by 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. John Oswalt, Executive Director for Privacy, Department of Veterans Affairs approved this document on January 18, 2018 for publication.

Dated: March 8, 2018.
Kathleen M. Manwell,
Program Analyst, VA Privacy Service, Office of Privacy Information and Identity Protection, Office of Quality, Privacy and Risk, Office of Information and Technology, Department of Veterans Affairs.

SYSTEM NAME

“VA Library Network (VALNET)-VA” (136VA10P2).

SECURITY CLASSIFICATION:

None.

SYSTEM LOCATION:

Records are maintained at each Department of Veterans Affairs (VA) medical center library (see Appendix A) and VA Central Office Library at 810 Vermont Avenue NW, Washington, DC 20420.

SYSTEM MANAGER(S):

Official responsible for policies and procedures; Network Librarian, Director, Veterans Health Administration (VHA) Library Network Office (10P2C), Department of Veterans Affairs, 810 Vermont Avenue NW, Washington, DC 20420. Officials maintaining the system; Director at the facility where the individuals are associated.

AUTHORITY FOR MAINTENANCE OF THE SYSTEM:

Title 38 United States Code Section 501.

PURPOSE(S) OF THE SYSTEM:

The records and information may be used to track library materials checked out to library users and those materials that are overdue, materials borrowed from other libraries for library users, to track and recover costs of lost library materials to determine library materials to purchase and/or replace based on usage, to track users of library public access computers, and to compile management and statistical reports. Cost is recovered by Fiscal Service through Bills of Collection. If Bills of Collection are not paid, Fiscal Service may garnish paychecks, including Federal tax refunds, or turn the matter over to collection agencies.

CATEGORIES OF INDIVIDUALS COVERED BY THIS SYSTEM:

The records may include information concerning all present and former VA employees, volunteers, students, contractors, regardless of whether they check out materials or use tables of content routing and interlibrary loan services. Records are maintained for Veterans, family members and caregivers that check out materials.

CATEGORIES OF RECORDS IN THE SYSTEM:

The records may include information related to:

1. Items checked out and in use (library books, journals, audiovisuals, and equipment such as iPads, e-readers, and laptops) and may include name, last four of social security number, email address, phone number, work or ward location of user.

2. Library public access computer work stations used by VA staff, Veterans, family members, and caregivers including name of user;

3. Name, last four digits of the social security number, email address, other assigned identifier, work location information, such as service, and extension for employees, students, and ward location for patients or other assigned identification.

RECORD SOURCE CATEGORIES:

Information in this system of records is provided by the individual, VA employees, volunteers, students, contractors, Veterans, and others who use the library services. Automated computer systems such as Integrated Library Systems (ILS) which are used to track items which have been checked out of the library may store the information.

ROUTINE USES OF RECORDS MAINTAINED IN THE SYSTEM, INCLUDING CATEGORIES OF USERS AND THE PURPOSES OF SUCH USES:

To the extent that records contained in the system include information protected by 38 U.S.C. 7332, i.e., medical treatment information related to drug abuse, alcoholism or alcohol abuse, sickle cell anemia or infection with the human immunodeficiency virus; information protected by 38 U.S.C. 5705, i.e., quality assurance records; or information protected by 45 CFR parts 160 and 164, i.e., individually identifiable health information, such information cannot be disclosed under a routine use unless there is also specific statutory authority permitting the disclosure. VA may disclose protected health information pursuant to the following routine uses where required or permitted by law.

1. Information from this system of records may be disclosed to a congressional office from the record of an individual in response to an inquiry from the congressional office made on behalf of that individual.

2. Disclosure may be made to the National Archives and Records Administration (NARA) for records management inspections under authority of Title 44 United States Code.

3. Disclosure may be at VA's initiative made to the appropriate Federal, State, or local agency responsible for investigating, prosecuting, enforcing, or implementing a statute, rule, regulation, or order, where the agency becomes aware of an indication of a violation or potential violation of civil or criminal law or regulation.

4. A record from this system of records may be disclosed to a Federal agency, in response to its request, in connection with the hiring or retention of an employee, the issuance of a security clearance, the conducting of a security or suitability investigation of an individual, the reporting of an investigation, the letting of a grant or other benefit, to the extent that the information is relevant and necessary to the requesting agency's decision on the matter.

5. Records from this system of records may be disclosed in a proceeding before a court, adjudicative body, or other administrative body when the Agency, or any Agency component or employee (in his or her official capacity as a VA employee), is a party to litigation; when the Agency determines that litigation is likely to affect the Agency, any of its components or employees, or the United States has an interest in the litigation, and such records are deemed to be relevant and necessary to the legal proceedings; provided that the disclosure is compatible with the purpose for which the records were collected.

6. Disclosure of relevant information may be made to individuals, organizations, private or public agencies, etc., with whom VA has a contract or agreement to perform such services as VA may deem practicable for the purposes of laws administered by VA, in order for the contractor or subcontractor to perform the services of the contract or agreement.

7. Disclosure may be made to officials of labor organizations recognized under 5 U.S.C. chapter 71 when relevant and necessary to their duties of exclusive representation concerning personnel policies, practices, and matters affecting working conditions.

8. Disclosure may be made to officials of the Merit Systems Protection Board, including the Office of the Special Counsel, when requested in connection with appeals, special studies of the civil service and other merit systems, review of rules and regulations, investigation of alleged or possible prohibited personnel practices, and such other functions, promulgated in 5 U.S.C. 1205 and 1206, or as may be authorized by law.

9. Disclosure may be made to the Equal Employment Opportunity Commission when requested in connection with investigations of alleged or possible discrimination.

10. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

11. VA may disclose on its own initiative any information in this system, except the names and home addresses of Veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

12. To disclose to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

13. VA may, on its own initiative, disclose any information or records to appropriate agencies, entities, and persons when (1) VA suspects or has confirmed that the integrity or confidentiality of information in the system of records has been compromised; (2) the Department has determined that as a result of the suspected or confirmed compromise there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

14. VA may disclose information from this system of records relevant to a claim of a veteran or beneficiary, such as the name, address, the basis and nature of a claim, amount of benefit payment information, medical information, and military service and active duty separation information, at the request of the claimant to accredited service organizations, VA approved claim agents, and attorneys acting under a declaration of representation, so that these individuals can aid claimants in the preparation, presentation, and prosecution of claims under the laws administered by VA. The name and address of a claimant will not, however, be disclosed to these individuals under this routine use if the claimant has not requested the assistance of an accredited service organization, claims agent or an attorney. VA must be able to disclose this information to accredited service organizations, VA approved claim agents, and attorneys representing veterans so they can assist veterans by preparing, presenting, and prosecuting claims under the laws administered by VA.

15. Disclosure to other Federal agencies may be made to assist such agencies in preventing and detecting possible fraud or abuse by individuals in their operations and programs.

POLICIES AND PRACTICES FOR STORAGE OF RECORDS:

Records are maintained in electronic and/or paper format.

POLICIES AND PRACTICES FOR RETRIEVABILITY OF RECORDS:

Records are retrieved by name, last four of the social security number and/or other assigned identifiers of the individuals on whom they are maintained.

POLICIES AND PRACTICES FOR RETENTION AND DISPOSAL OF RECORDS:

The VALNET records may be disposed of in accordance with the records retention standards authorized by the NARA General Records Schedule 14, item 6, and published in the Veterans Health Administration Records Control Schedule 10-1, 1950 library Services, Item 1. Temporary; destroy when superseded or obsolete (GRS 14, item 6).

PHYSICAL, PROCEDURAL, AND ADMINISTRATIVE SAFEGUARDS:

1. Access to VA libraries is not restricted to VA employees. Generally the offices housing the files for storage of records are attended by staff who maintain the files during normal duty hours and after normal duty hours facilities are protected from outside access by the Federal Protective Service or other security personnel.

2. Access to files is controlled by the employees who maintain the files. Access to computerized records is controlled by the use of security codes known only to authorize users.

RECORD ACCESS PROCEDURE:

Individuals seeking information regarding access to and contesting records in the system may write, call, or visit the VA facility location where they are or were employed or made contact.

CONTESTING RECORD PROCEDURES:

(See Record Access procedures above.)

NOTIFICATION PROCEDURE:

Individuals wishing to inquire whether this system of records contains information about themselves should contact the designated individual at the VA facility where the records are maintained. Individuals must furnish the following information in order for their records to be located and identified: a. Full name, b. dates of employment, service, hospital stay, or use of library, c. description of information being sought and, d. return address.

EXEMPTIONS PROMULGATED FOR THE SYSTEM:

None.

HISTORY:

Last full publication provided in 75 FR 72873.

Appendix A—List of VA Libraries

Library, Alaska VA Healthcare System, 1201 North Muldoon, Anchorage, AK 99508

Library, Central Alabama Veterans Health Care System, 2400 Hospital Road, Tuskegee, AL 36083

Library, VA Medical Center, 1100 North College Avenue, Fayetteville, AR 72703-1999

Library, Central Arkansas Veterans Healthcare System, 4300 W 7th St., Little Rock, AR 72205-5484

Library, Central Arkansas Veterans Healthcare System, 2200 Fort Roots Drive, North Little Rock, AR 72114

Library, VA Medical Center, 650 East Indian School Road, Phoenix, AZ 85012-1892

Library, VA Medical Center, 500 Highway 89 North, Prescott, AZ 86313

Library, VA Medical Center, 3601 South 6th Street, Tucson, AZ 85723-0001

Library, VA Medical Center, 2615 East Clinton Avenue, Fresno, CA 93703-2286

Library, VA Medical Center, 11201 Benton Street, Loma Linda, CA 92357-1000

Library, VA Medical Center, 5901 East 7th Street, Long Beach, CA 90822-5201

Library Service, VA Greater LA Healthcare System, 11301 Wilshire Boulevard, Los Angeles, CA 90073

Library, VA Medical Center, 3801 Miranda Avenue, Palo Alto, CA 94304-1290

Library Service, Northern California Health Care System, 5243 Dudley Blvd. Sacramento, CA 95652

Library, VA Medical Center, 3350 La Jolla Village Drive, San Diego, CA 92161-4041

Library, VA Medical Center, 4150 Clement Street, San Francisco, CA 94121-1598

Library, VA Medical Center, 2121 North Avenue, Grand Junction, CO 81501-6499

Library, VA Medical Center, 950 Campbell Avenue, West Haven, CT 06516

Library, VA Medical Center, 50 Irving Street NW, Washington, DC 20422

Library, VA Central Office, 810 Vermont Avenue NW, Washington, DC 20420-0002

Library, VA Medical Center, 1601 Kirkwood Highway, Wilmington, DE 19805

Library, VA Medical Center, 10000 Bay Pines Blvd., Bay Pines, FL 33708

Library, VA Medical Center, 1601 SW Archer Road, Gainesville, FL 32608-1197

Library, VA Medical Center, 619 South Marion Street, Lake City, FL 32025

Library, Miami VA Healthcare System, 1201 NW 16th St, Miami, FL 33125

Library, VA Health Care Center, 5201 Raymond Street, Orlando, FL 32803

Library, VA Medical Center, 13000 Bruce B. Downs Blvd., Tampa, FL 33612-4745

Library, VA Medical Center, 7305 N Military Trail, West Palm Beach, FL 33410-6400

Library, VA Medical Center, 1 Freedom Way, Augusta, GA 30904-6285

Library, VA Medical Center-Atlanta, 1670 Clairmont Road, Decatur, GA 30033

Library, VA Medical Center, 500 West Fort Street, Boise, ID 83702-4598

Library, Jesse Brown VAMC, 820 S Damen Avenue, Chicago, IL 60612-3740

Library, VA Medical Center, 1900 East Main Street, Danville, IL 61832-5198

Library, VA Medical Center, 5th St & Roosevelt Ave, Hines, IL 60141-5142

Library, VA Medical Center, 2401 West Main Street, Marion, IL 62959-1188

Library, VA Medical Center, 3001 N Green Bay Road, North Chicago, IL 60064-3096

Library, Northern Indiana Health Care System, 2121 Lake Avenue, Fort Wayne, IN 46805

Library, VA Medical Center, 1481 West 10th Street, Indianapolis, IN 46202-2803

Library, VA Medical Center, 2250 Leestown Road, Lexington, KY 40511-1093

Library, VA Medical Center, 800 Zorn Avenue, Louisville, KY 40206-1499

Library, VA Medical Center, 2495 Shreveport Highway, Alexandria, LA 71306-9004

Library, VA Medical Center, 1601 Perdido Street, New Orleans, LA 70112

Library, VA Medical Center, 510 East Stoner Avenue, Shreveport, LA 71101-4295

Library, Edith Nourse Memorial Veterans Hospital, 200 Springs Road, Bedford, MA 01730

Library, Boston Healthcare System, 940 Belmont St., Brockton, MA 02301

Library, VA Medical Center, 421 North Main Street, Leeds, MA 01053-9714

Library, VA Maryland Healthcare System, 10 North Greene Street, Baltimore, MD 21201-1524

Library, Togus VA Medical Center, 1 Medical Center Dr., Togus, ME 04330-6795

Library, VA Ann Arbor Healthcare System, 2215 Fuller Road, Ann Arbor, MI 48105

Library, VA Medical Center, 5500 Armstrong Road, Battle Creek, MI 49037

Library, VA Medical Center, 4646 John R. St., Detroit, MI 48201-1916

Library, VA Medical Center, 1500 Weiss Street, Saginaw, MI 48602

Library, VA Medical Center, One Veterans Drive, Minneapolis, MN 55417-2236

Library, VA Medical Center, 4801 Eighth Street North, St. Cloud, MN 56303-2099

Library, VA Medical Center, 400 Veterans Avenue, Biloxi, MS 39531-2410

Library, VA Medical Center, 1500 East Woodrow Wilson, Jackson, MS 39216-5199

Library, VA Medical Center, 800 Hospital Drive, Columbia, MO 65201-5275

Library, VA Medical Center, 4801 Linwood Boulevard, Kansas City, MO 64128-2295

Library, VA Medical Center, 915 N Grand Blvd., St. Louis, MO 63106

Library, VA Medical Center, 3687 Veterans Dr., Fort Harrison, MT 59636

Library, VA Medical Center, 1100 Tunnel Road, Asheville, NC 28805-2087

Library, VA Medical Center, 508 Fulton Street, Durham, NC 27705-3875

Library, VA Medical Center, 1601 Brenner Avenue, Salisbury, NC 28144

Library, VA Medical Center, 2101 Elm Street, Fargo, ND 58102- 2417

Library, VA Medical Center, 4101 Woolworth Avenue, Omaha, NE 68105-1873

Library, VA Medical Center, 718 Smyth Road, Manchester, NH 03104-4098

Library, East Orange Campus, 385 Tremont Ave., East Orange, NJ 07018

Library, VA Medical Center, 151 Knollcroft Road, Lyons, NJ 07939-5000

Library, VA Medical Center, 1501 San Pedro Drive SE, Albuquerque, NM 87108-5138

Library, Southern Nevada Health Care System, 6900 North Pecos Rd., Las Vegas, NV 89086

Library, Reno VA Medical Center, 1000 Locust Street, Reno, NV 89502

Library, VA Medical Center, 113 Holland Avenue, Albany, NY 12208-3410

Library, VA Medical Center, 130 West Kingsbridge Road, Bronx, NY 10468

Library, VA Medical Center, 800 Poly Place, Brooklyn, NY 11209

Library, VA Medical Center, 400 Fort Hill Avenue, Canandaigua, NY 14424-1188

Library, VA Medical Center, 423 East 23rd Street, New York, NY 10010-5050

Library, VA Medical Center, 79 Middleville Road-Bldg. 12, Northport, NY 11768-2290

Library, VA Medical Center, 17273 State Route 104, Chillicothe, OH 4560

Library, VA Medical Center, 3200 Vine Street, Cincinnati, OH 45220-2288

Library, Louis Stokes VA Medical Center, 10701 East Blvd., Cleveland, OH 44106

Library Service, VA Medical Center, 4100 West 3rd Street, Dayton, OH 45428

Library, VA Medical Center, 1011 Honor Heights Drive, Muskogee, OK 74401-1399

Library, VA Medical Center, 921 Northeast 13th Street, Oklahoma City, OK 73104-5028

Library, Portland VA Medical Center, 3710 SW U.S. Veterans Hospital Rd., Portland, OR 97239

Library, Southern Oregon Rehab Center and Clinic, 8495 Crater Lake Highway, White City, OR 97503-1088

Library, VA Medical Center, 2907 Pleasant Valley Blvd., Altoona, PA 16602-4377

Library, VA Medical Center, 325 New Castle Road, Butler, PA 16001-2480

Library, VA Medical Center, 1400 Black Horse Hill Road, Coatesville, PA 19320-2096

Library, Erie VA Medical Center, 135 E 38th Street, Erie, PA 16504-1559

Library, VA Medical Center, 1700 S Lincoln Avenue, Lebanon, PA 17042-7597

Library, Philadelphia VA Medical Center, 3900 Woodland Avenue, Philadelphia, PA 19104

Library, Pittsburgh Healthcare System, 1010 Delafield Rd., Pittsburgh, PA 15215

Library, Pittsburgh Healthcare System, University Drive C, Pittsburgh, PA 15240

Library, VA Medical Center, 1111 East End Boulevard, Wilkes-Barre, PA 18711-0026

Library, VA Medical Center, 10 Calle Casia, San Juan, PR 00921-3201

Library, Providence Medical Center, 830 Chalkstone Avenue, Providence, RI 02908-4799

Library, VA Medical Center, 109 Bee Street, Charleston, SC 29401-5799

Library, WJB Dorn VA Medical Center, 6439 Garners Ferry Road, Columbia, SC 29209

Library, VA Black Hill Health Care System, 500 North 5th Street, Hot Springs, SD 57747

Library, VA Medical Center, 113 Comanche Road, Fort Meade, SD 57741-1099

Library, Sioux Falls VA Medical Center, 2501 W 22nd Street, Sioux Falls, SD 57117

Library, VA Medical Center, 1030 Jefferson Avenue, Memphis, TN 38104-2193

Library, VA Medical Center, Sydney & Lamont Sts., (Johnson City), Mountain Home, TN 37684-5001

Library, Tennessee Valley Healthcare System, 3400 Lebanon Pike, Murfreesboro, TN 37129

Library, VA Medical Center, 1310 24th Avenue, South, Nashville, TN 37212-2637

Library, VA Medical Center, 6010 Amarillo Blvd. West, Amarillo, TX 79106-1992

Library, VA Medical Center, 1201 East 9th Street, Bonham, TX 75418-4019

Library, VA Medical Center, 4500 South Lancaster Road, Dallas, TX 75216-7191

Library, VA Medical Center, 2002 Holcombe Blvd., Houston, TX 77030-4298

Library, VA Medical Center, Veterans Memorial Drive, Temple, TX 76504-7497

Library, VA Medical Center, 500 Foothill Boulevard, Salt Lake City, UT 84148

Library, Hampton VA Medical Center, 100 Emancipation Drive, Hampton, VA 23667-0001

Library, VA Medical Center, 1201 Broad Rock Blvd., Richmond, VA 23249-0001

Library, VA Medical Center, 1970 Roanoke Boulevard, Salem, VA 24153-6478

Library, VA White River Junction VA MC, 215 North Main Street, White River Junction, VT 05009

Library, VA Medical Center, 1660 S Columbian Way, Seattle, WA 98108-1597

Library, VA Medical Center, 4815 North Assembly Street, Spokane, WA 99205-6197

Library, VA Medical Center, 9600 Veterans Drive, Tacoma, WA 98493

Library, VA Medical Center, 77 Wainwright, Walla Walla, WA 99362

Library, VA Medical Center, 5000 West National Avenue, Milwaukee, WI 53295-0001

Library, VA Medical Center, 500 East Veterans Street, Tomah, WI 54660-3100

Library, VA Medical Center, 200 Veterans Avenue, Beckley, WV 25801-6499

Library, VA Medical Center, One Medical Center Drive, Clarksburg, WV 26301

Library, VA Medical Center, 1540 Spring Valley Drive, Huntington, WV 25704

Library, VA Medical Center, 510 Butler Avenue, Martinsburg, WV 25401-0205

[FR Doc. 2018-05086 Filed 3-13-18; 8:45 am]

BILLING CODE 8320-01-P